DEPARTMENT OF DEFENSE

Department of the Air Force

Notice is Given of the Names of Members of the Performance Review Board for the Department of the Air Force

AGENCY: Department of the Air Force, Department of Defense.

ACTION: Meeting notice.

SUMMARY: Notice is given of the names of members of the 2023 Performance Review Board for the Department of the Air Force for board meeting.

DATES: December 8, 2023. Not open to public.

ADDRESSES: Please direct any written comments or requests for information to Ms. Melanie McGuire, Ms. Virginia Reynolds, and Ms. Jacquelyn Salkeld, Department of the Air Force Civilian Senior Executive Management Office, SAF/MRL, 1660 Air Force Pentagon, Washington, DC 20330-1040.

FOR FURTHER INFORMATION CONTACT: Melanie McGuire, Department of the Air Force Civilian Senior Executive Management Office, SAF/MRL, 1660 Air Force Pentagon, Washington, DC 20330-1040. Telephone: 703-695-4555; or via email at melanie.mcguire@us.af.mil.

SUPPLEMENTARY INFORMATION: Pursuant to 5 U.S.C. 4314(c) (1-5), the Department of the Air Force announces the appointment of members to the Air Force's Senior Executive Service Performance Review Board. Appointments are made by the authorizing official. Each board member shall review and evaluate performance scores provided by the Senior Executive's rater/immediate supervisor. Performance standards must be applied consistently across the Air Force. The board will make final recommendations to the authorizing official relative to the performance of the executive.

The members of the 2023 Performance Review Board for the Air Force are:

1. Honorable Alex Wagner (Chair), Assistant Secretary of the Air Force for Manpower and Reserve Affairs

2. General Duke Richardson (Co-Chair), Commander, Air Force Materiel Command

3. Ms. Gwendolyn DeFilippi, Principal Deputy Assistant Secretary of the Air Force for Manpower and Reserve Affairs

4. Mr. Carlos Rodgers, Principal Deputy Assistant Secretary of the Air Force for Financial Management and Comptroller

5. Major General Stephen Jost, Commander, Joint Enabling Capabilities Command, United States Transportation Command,

6. Mr. Anthony Reardon, Administrative Assistant to the Secretary of the Air Force

7. Ms. Glenda Scheiner, (Acting) Assistant Deputy Chief of Staff for Manpower, Personnel and Services

8. Mr. Edwin Oshiba, Principal Deputy Assistant Secretary of the Air Force for Installations, Environment and Energy

9. Ms. Lorna Estep, Executive Director, Air Force Materiel Command

10. Ms. Darlene Costello, Principal Deputy Assistant Secretary of the Air Force Acquisition, Technology & Logistics

11. Mr. Craig Smith, Principal Deputy General Counsel of the Air Force

12. Mr. Richard Lombardi, Deputy Under Secretary of the Air Force, Management and Chief Management Officer

13. Ms. Katharine Kelley, Deputy Chief of Space Operations for Human Capital, United States Space Force

14. Ms. Shannon McGuire (Legal Advisor), Deputy General Counsel for Fiscal Ethics and Administrative Law

15. Mr. Richard Desmond (Legal Advisor), Associate General Counsel of the Air Force

The following Tier 3 Career SES members will serve as alternates:

1. Mr. Douglas Bennett, Auditor General of the Air Force

2. Ms. Kelli Seybolt, Deputy Under Secretary of the Air Force, International Affairs

3. Mr. William Bailey, Director and Program Executive Officer for the Air Force Rapid Capabilities Office

4. Mr. Daniel Fri, Assistant Deputy Chief of Staff, Logistics, Engineering and Force Support

5. Mr. Thomas Lawhead, Assistant Deputy Chief of Staff, Strategy Integration and Requirements

6. Ms. Jennifer Miller, Director of Staff, Office of the Secretary of the Air Force

7. Mr. Joseph McDade, Assistant Deputy Chief of Staff for Strategic Plans and Programs

Tommy W. Lee,
Acting Air Force Federal Register Liaison Officer.

[FR Doc. 2023-26129 Filed 11-27-23; 8:45 am]

BILLING CODE 5001-10-P